DEPARTMENT OF COMMERCE

International Trade Administration

[A-201-822]

Stainless Steel Sheet and Strip in Coils From Mexico; Extension of Time Limit for Preliminary Results of Antidumping Duty Administrative Review

AGENCY: Import Administration, International Trade Administration, Department of Commerce.

EFFECTIVE DATE: February 22, 2008.

FOR FURTHER INFORMATION CONTACT: Maryanne Burke or Robert James, AD/CVD Operations, Office 7, Import Administration, International Trade Administration, U.S. Department of Commerce, 14th Street and Constitution Avenue NW., Washington, DC 20230; telephone: (202) 482-5604 or (202) 482-0649, respectively.

Background

On July 30, 2007, the Department of Commerce (the Department) received a timely request from Allegheny Ludlum Corporation, AK Steel Corporation, North American Stainless, United Auto Workers Local 3303, Zanesville Armco Independent Organization, Inc. and the United Steelworkers (collectively, petitioners) to conduct an administrative review of the antidumping duty order on stainless steel sheet and strip in coils from Mexico. On August 24, 2007, the Department published a notice of initiation of this administrative review, covering the period of July 1, 2006 to June 30, 2007. See Initiation of Antidumping and Countervailing Duty Administrative Reviews and Request for Revocation in Part, 72 FR 48613 (August 24, 2007). The current deadline for the preliminary results of this review is April 1, 2008.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within these time periods, section 751(a)(3)(A) of the Tariff Act allows the Department to extend the time limit for the preliminary results to a maximum of 365 days after the last day of the anniversary month of an order for which a review is requested.

The Department finds that it is not practicable to complete the preliminary results of this review within the original time frame due to additional analysis necessary with respect to cost of production data used in the margin calculation programs. Moreover, we require additional information from the respondent, ThyssenKrupp Mexinox S.A. de C.V. and Mexinox USA, Inc., in order to complete our analysis and will not have time to analyze this information prior to the current deadline for the preliminary results. Accordingly, the Department is extending the time limit for completion of the preliminary results of this administrative review until no later than July 30, 2008, which is 365 days from the last day of the anniversary month. We intend to issue the final results no later than 120 days after publication of the preliminary results notice. This extension is issued and published in accordance with sections 751(a)(3)(A) and 777(i) of the Tariff Act.

Dated: February 15, 2008.
Stephen J. Claeys,
Deputy Assistant Secretary for Import Administration.

[FR Doc. E8-3381 Filed 2-21-08; 8:45 am]

BILLING CODE 3510-DS-P